DEPARTMENT OF TRANSPORTATION

Federal Transit Administration

[FTA Docket No. FTA-2015-0004]

Special Notice; Correction

AGENCY: Federal Transit Administration, DOT.

ACTION: Notice of Correction.

SUMMARY: The Federal Transit Administration (FTA) published a 30-Day Notice of Request for Comments in the Federal Register on March 17, 2015 Vol. 80 No. 51 entitled; “49 U.S.C. 5335(a) and (b) National Transit Database Program.” The notice contained an incorrect estimated total annual burden on respondents. This document corrects that error.

FOR FURTHER INFORMATION CONTACT: Tia Swain, Office of Administration, Office of Management Planning, (202) 366-0354.

Correction

Estimated Total Annual Burden: 302,400 hours.

Matthew M. Crouch,
Associate Administrator for Administration.

[FR Doc. 2015-07604 Filed 4-2-15; 8:45 am]

BILLING CODE P